GENERAL SERVICES ADMINISTRATION

48 CFR Parts 519 and 552

[GSAR Amendment 2012-02; GSAR Case 2011-G502; (Change 54) Docket 2012-0003, Sequence 1]

RIN 3090-AJ24

General Services Administration Acquisition Regulation; Acquisition-Related Thresholds

AGENCIES: Office of Acquisition Policy, General Services Administration (GSA).

ACTION: Final rule.

SUMMARY: GSA is issuing a final rule amending the General Services Administration Acquisition Regulation (GSAR) to update the acquisition-related thresholds in two GSAR clauses.

DATES: Effective Date: March 26, 2012.

FOR FURTHER INFORMATION CONTACT: Mr. Karlos Morgan, Procurement Analyst, at (202) 501-2364, for clarification of content. For information pertaining to status or publication schedules, contact the Regulatory Secretariat at (202) 501-4755. Please cite GSAR Amendment 2012-02, GSAR Case 2011-G502.

SUPPLEMENTARY INFORMATION:

I. Background

The General Services Administration is amending the GSAR to comply with changes made to acquisition-related thresholds by Federal Acquisition Circular 2005-45 (Federal Acquisition Regulation (FAR) Case 2008-024), published in the Federal Register at 75 FR 53129, August 30, 2010, with an effective date of October 1, 2010. FAR Case 2008-024 implements Section 807 of the National Defense Authorization Act for Fiscal Year 2005 (Pub. L. 108-375). Section 807 provides for adjustment every 5 years of acquisition-related thresholds, except for Davis-Bacon Act, Service Contract Act, and trade agreements thresholds.

As a result of changes made to the acquisition-related thresholds, the GSAR clause at 552.219-71, Notice to Offerors of Subcontracting Plan Requirements, is revised by removing “$500,000” and “$1,000,000” and replacing the GSAR text with “$650,000” and “$1,500,000”, respectively. The GSAR clause at 552.219-72, Preparation, Submission, and Negotiation of Subcontracting Plans, is revised by removing “$500,000” and “$1,000,000” and replacing the GSAR text with “$650,000” and “$1,500,000”, respectively.

II. Executive Orders 12866 and 13563

Executive Orders (E.O.s) 12866 and 13563 direct agencies to assess all costs and benefits of available regulatory alternatives and, if regulation is necessary, to select regulatory approaches that maximize net benefits (including potential economic, environmental, public health and safety effects, distributive impacts, and equity). E.O. 13563 emphasizes the importance of quantifying both costs and benefits, of reducing costs, of harmonizing rules, and of promoting flexibility. This is not a significant regulatory action and, therefore, was not subject to review under Section 6(b) of E.O. 12866, Regulatory Planning and Review, dated September 30, 1993. This rule is not a major rule under 5 U.S.C. 804.

III. Regulatory Flexibility Act

The General Services Administration certify that this final rule will not have a significant economic impact on a substantial number of small entities within the meaning of the Regulatory Flexibility Act, 5 U.S.C. 601, et seq., because FAR Case 2008-024, which addresses the acquisition-related thresholds, was published in the Federal Register at 75 FR 53129, August 30, 2010, with an effective date of October 1, 2010. Further, Acquisition Letter MV-11-01, Adjustment of GSAM Acquisition-Related Thresholds due to Federal Acquisition Circular 2005-45 (Item I, Inflation Adjustment of Acquisition-Related Thresholds), was effective immediately upon the publishing of Acquisition Letter (October 8, 2010). All other revisions to the GSAM are non-regulatory.

IV. Paperwork Reduction Act

The rule does not contain any information collection requirements that require the approval of the Office of Management and Budget under the Paperwork Reduction Act (44 U.S.C. chapter 35).

List of Subjects in 48 CFR Parts 519 and 552

Government procurement.

Dated: February 16, 2011.
Joseph A. Neurauter,
Senior Procurement Executive, Office of Acquisition Policy, General Services Administration.

Therefore, GSA amends 48 CFR parts 519 and 552 as set forth below:

PART 519—SMALL BUSINESS PROGRAMS

1. The authority citation for 48 CFR part 519 is revised to read as follows:

Authority: 40 U.S.C. 121(c).

2. Amend section 519.870-8 by revising paragraph (a)(3) to read as follows:

519.870-8 Contract clauses.

(a) * * *

(3) Insert the clause at FAR 52.219-18, Notification of Competition Limited to Eligible 8(a) Concerns. Substitute the following paragraph for paragraph (c) of the clause. Add the word “Deviation” at the end of the clause title.

(c) Any award resulting from this solicitation will be made directly by the Contracting Officer to the successful 8(a) offeror selected through the evaluation criteria set forth in this solicitation.

* * * * *

PART 552—SOLICITATION PROVISIONS AND CONTRACT CLAUSES

3. The authority citation for 48 CFR part 552 continues to read as follows:

Authority: 40 U.S.C. 121(c).

4. Amend section 552.219-71 by revising the date of the provision; and by removing from the introductory text “$500,000 ($1,000,000” and adding “$650,000 ($1,500,000” in its place. The revised text reads as follows:

552.219-71 Notice to Offerors of Subcontracting Plan Requirements.

* * * * *

Notice to Offereors of Subcontracting Plan Requirements (MAR 2012)

* * * * *

5. Amend section 552.219-72 by revising the date of the provision; and removing from the introductory text “$500,000 ($1,000,000” and adding “$650,000 ($1,500,000” in its place. The revised text reads as follows:

552.219-72 Preparation, Submission, and Negotiation of Subcontracting Plans.

* * * * *

Preparation, Submission, and Negotiation of Subcontracting Plans (MAR 2012)

* * * * *

6. Amend section 552.219-76 by revising the date of the clause; and removing from paragraph (f) “519.7011(j)” and adding “519.7010(j)” in its place. The revised text reads as follows:

552.219-76 Mentor Requirements and Evaluation.

* * * * *

Mentor Requirements and Evaluation (MAR 2012)

* * * * *

[FR Doc. 2012-4229 Filed 2-22-12; 8:45 am]

BILLING CODE 6820-61-P